DEPARTMENT OF COMMERCE

National Oceanic and Atmospheric Administration

[I.D. 011604B]

Endangered Species; File No. 1377

AGENCY: National Marine Fisheries Service (NMFS), National Oceanic and Atmospheric Administration (NOAA), Commerce.

ACTION: Receipt of application for modification.

SUMMARY: Notice is hereby given that Dr. Anton Tucker, Mote Marine Laboratory, 1600 Ken Thompson Parkway, Sarasota, FL 34236, has requested a modification to scientific research Permit No. 1377.

DATES: Written or telefaxed comments must be received on or before February 25, 2004.

ADDRESSES: The modification request and related documents are available for review upon written request or by appointment in the following office(s):

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)713-0376, provided the facsimile is confirmed by hard copy submitted by mail and postmarked no later than the closing date of the comment period. Please note that comments will not be accepted by e-mail or other electronic media.

FOR FURTHER INFORMATION CONTACT: Sarah Wilkin or Carrie Hubard, (301)713-2289.

SUPPLEMENTARY INFORMATION: The subject modification to Permit No. 1377, issued on December 4, 2002 (67 FR 76727) is requested under the authority of the Endangered Species Act of 1973, as amended (16 U.S.C. 1531 et seq.) and the regulations governing the taking, importing, and exporting of endangered and threatened species (50 CFR 222-226).

Permit No. 1377 authorizes the permit holder to: capture, flipper and PIT tag and collect blood and tissue samples from 150 juvenile and subadult green (Chelonia mydas), 150 juvenile and sub-adult Kemp's ridley (Lepidochelys kempi), 100 juvenile and sub-adult loggerhead (Caretta caretta), and 5 juvenile and sub-adult hawksbill (Eretmochelys imbricata) sea turtles annually in Charlotte Harbor, Florida. Additionally, 10 green, 10 Kemp's ridley, 10 loggerhead, and 5 hawksbill sea turtles may also be collected annually from Pine Island Sound and the Gulf of Mexico waters near Crystal River, FL incidental to gill net operations targeting sharks conducted by the Center for Shark Research. These turtles will be measured, flipper tagged and released. In the second through fifth years of the permit, up to 5 green and/or Kemp's ridley turtles will also have satellite tags attached. This permit expires December 31, 2007. The permit holder requests authorization to expand the study area to include the Florida Keys, and to allow the capture, flipper and PIT tagging and collection of blood and tissue samples from an additional 150 juvenile and subadult green, 150 juvenile and sub-adult Kemp's ridley, 100 juvenile and sub-adult loggerhead, and 5 juvenile and sub-adult hawksbill sea turtles in the Florida Keys. The permit holder requests the addition of sampling techniques for all captured turtles to include scute scraping for heavy metal analysis, bioelectrical impedance analysis to determine fat content, gastric lavage to obtain stomach contents, and laparoscopic surgery to determine sex and reproductive status. Additionally, the permit holder requests authorization to utilize additional telemetry instruments and attachment methods, including radio tags, sonic (acoustic) tags, time depth recorders, and animal-borne video, audio and environmental data collection systems (AVEDS). Instruments will be attached to a maximum of 25 turtles of any species in Charlotte Harbor, and 25 turtles of any species in the Florida Keys, annually.

Dated: January 16, 2004.
Carrie W. Hubard,
Acting Chief, Permits, Conservation and Education Division, Office of Protected Resources, National Marine Fisheries Service.

[FR Doc. 04-1571 Filed 1-23-04; 8:45 am]

BILLING CODE 3510-22-S